DEPARTMENT OF THE INTERIOR

Bureau of Land Management

[LLCON04000 L16100000.DP0000]

Notice of Availability of Draft Resource Management Plan and Draft Environmental Impact Statement for the Colorado River Valley Field Office, Colorado

AGENCY: Bureau of Land Management, Interior.

ACTION: Notice of availability.

SUMMARY: In accordance with the National Environmental Policy Act of 1969, as amended, and the Federal Land Policy and Management Act of 1976 (FLPMA), as amended, the Bureau of Land Management (BLM) has prepared a Draft Resource Management Plan (RMP) and Draft Environmental Impact Statement (EIS) for the Colorado River Valley Field Office and by this notice is announcing the opening of the comment period.

DATES: To ensure that comments will be considered, the BLM must receive written comments on the Draft RMP/Draft EIS within 90 days following the date the Environmental Protection Agency publishes its notice of the Draft RMP/Draft EIS in the Federal Register. The BLM will announce future meetings or hearings and any other public participation activities at least 15 days in advance through public notices, media releases, and/or mailings.

ADDRESSES: You may submit comments related to the Colorado River Valley Draft RMP/Draft EIS by any of the following methods:

• Web site: http://www.blm.gov/rmp/co/kfo-gsfo.

• E-mail: co_crvrmp@blm.gov.

• Fax: (970) 876-9090.

• Mail: Bureau of Land Management, Colorado River Valley Field Office, RMP Comments, 2300 River Frontage Road, Silt, Colorado 81652.

Copies of the Colorado River Valley DRMP/Draft EIS are available in the Colorado River Valley Field Office at the above address.

FOR FURTHER INFORMATION CONTACT: John Russell, RMP Project Manager, telephone: (970) 876-9025; see address above; e-mail: jdrussell@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft RMP/Draft EIS addresses public lands and resources managed by the Colorado River Valley Field Office (formerly the Glenwood Springs Field Office) in Eagle, Garfield, Mesa, Pitkin, Rio Blanco, and Routt Counties, Colorado. These lands are currently managed under the 1984 Glenwood Springs RMP, as amended. The planning area includes approximately 505,000 BLM-administered surface acres and approximately 707,000 subsurface acres of Federal mineral estate.

Decisions in the Colorado River Valley RMP will only apply to BLM-administered public lands and federally owned subsurface mineral estate. Except for addressing the wild and scenic river suitability for stream segments determined to be eligible, the Draft RMP/Draft EIS does not address the decisions made in the Roan Plateau Planning Area RMP Amendment and EIS (2008).

The Draft EIS also incorporates and analyzes the U.S. Department of Agriculture, U.S. Forest Service (USFS), White River National Forest Wild and Scenic River suitability study determinations for the USFS-managed segments of the Colorado River (Glenwood Canyon) and Deep Creek.

The Colorado River Valley Field Office and the Kremmling Field Office were originally revising their respective RMPs jointly. Since the two field offices border one another and share some common issues, a combined planning effort was an efficient way to complete the first stages of the plan revisions, such as public scoping and studies. However, given the complexity of the RMP revisions and in response to cooperating agency and internal BLM comments, each field office will issue separate Draft RMP/Draft EISs. The planning effort for the two field offices will continue as separate processes on separate schedules.

This Draft RMP/Draft EIS proposes and analyzes four alternatives for future public land and resource management in the planning area. Alternative A (No Action) would continue the current management situation, managing the lands under the 1984 Glenwood Springs RMP, as amended. Alternative B (the BLM's preferred alternative) seeks to allocate limited resources among competing human interests, land uses, and conservation of natural and cultural resource values by strategically addressing demands across the landscape. Alternative C emphasizes protecting resources and sustaining the ecological integrity of habitats for all priority plant, wildlife, and fish species, particularly the habitats needed for the conserving and recovering threatened and endangered plant and animal species. Alternative D emphasizes maximizing resource production while maintaining the basic protection needed to sustain resources.

Major issues identified during the public scoping process and addressed in the Draft RMP/Draft EIS include, but are not limited to, travel management and transportation, wilderness characteristics, recreational demand and uses, lands and realty, special designations, urban interface, energy development, rangeland health/upland management, vegetation resources, wildlife resources, water/riparian resources, sagebrush habitat and species, and cultural resources.

Pursuant to 43 CFR 1610.7-2(b), this notice announces a concurrent public comment period on proposed Areas of Critical Environmental Concern (ACEC). ACECs meeting the relevance and importance criteria were analyzed within the range of alternatives. ACECs considered for designation include Abrams Creek, Blue Hill, Bull Gulch, Colorado River Seeps, Deep Creek, Dotsero Crater, Glenwood Springs Debris Flow, Grand Hogback, Greater Sage Grouse Habitat, Hardscrabble Mayer Gulch, Hardscrabble Mayer Gulch/East Eagle Ridge, Lower Colorado River, Lyons Gulch, McCoy Fan Delta, Mount Logan Foothills, Sheep Creek Uplands, The Crown Ridge and Thompson Creek.

The proposed ACECs and resource-use limitations are:

• Abrams Creek, 190 acres, Alternative C: No Surface Occupancy (NSO); Visual Resource Management (VRM) Class II; Right-of-Way (ROW) exclusion area; closed to motorized vehicles including snowmobiles.

• Blue Hil, 3,700 acres, Alternatives A, B, C, D: Close to leasing; NSO; VRM Class II; ROW exclusion area; prohibited net increase in motorized/mechanized routes; travel limited to designated routes, including snowmobiles for action alternatives; vegetation treatments allowed if they maintain or enhance the identified relevant and important (R&I) values.

• Bull Gulch, 10,400 acres, Alternatives A, B, C, D: Closed to leasing; NSO; VRM Class I; ROW exclusion area; closed to motorized vehicles, including snowmobiles.

• Colorado River Seeps, 470 acres, Alternative C: NSO; ROW avoidance area; prohibited net increase in motorized/mechanized routes.

• Deep Creek, 2,400 acres, Alternatives A, B, C: Closed to leasing; NSO; closed to motorized/mechanized vehicles, including snowmobiles; vegetation treatments allowed only for the benefit of the identified R&I values; recommended for mineral withdrawal.

• Dotsero Crater, 100 acres, Alternative C: NSO; VRM Class II; ROW exclusion area; closed to motorized vehicles.

• Glenwood Springs Debris Flow, 6,100 acres, Alternatives A, B, C, D: NSO; VRM Class II; ROW avoidance area; prohibited net increase in motorized/mechanized routes; travel limited to designated routes, including snowmobiles for the action alternatives; prescribed fire allowed; natural fire managed for resource benefits; vegetation treatments allowed if they maintain or enhance the identified R&I values.

• Grand Hogback, 14,000 acres, Alternative C: NSO; VRM Class II; ROW avoidance area; unavailable for coal leasing; prohibited net increase in motorized/mechanized routes; prescribed fire allowed; natural fire managed for resource benefits; vegetation treatments allowed if they maintain or enhance the identified R&I values.

• Greater Sage Grouse Habitat, 24,600 acres, Alternative C: Closed to leasing; NSO; VRM Class II; ROW avoidance area; new transmission lines excluded; prohibited net increase in motorized/mechanized routes; closed Castle Peak portion to snowmobiles; Conditions of Approval attached to project proposals, including additional onsite or offsite mitigation to minimize impacts to the R&I values; prescribed fire allowed; natural fire managed for resource benefits; vegetation treatments allowed if they maintain or enhance the identified R&I values.

• Hardscrabble Mayer Gulch, 3,400 acres, Alternative B; 4,200 acres including East Eagle Ridge addition, Alternative C: NSO; VRM Class II; ROW avoidance area; prohibited net increase in motorized/mechanized routes; closed to snowmobiles; prescribed fire allowed; natural fire managed for resource benefits; vegetation treatments allowed if they maintain or enhance the identified R&I values.

• Lower Colorado River, 130 acres, Alternative A: VRM Class II; ROW avoidance area.

• Lyons Gulch, 480 acres, Alternative B, C: NSO; prohibited net increase in motorized/mechanized routes; prescribed fire allowed; natural fire managed for resource benefits; vegetation treatments allowed if they maintain or enhance the identified R&I values.

• McCoy Fan Delta, 220 acres, Alternative C: NSO; VRM Class II; prohibited net increase in motorized/mechanized routes; ROW avoidance area; closed to fossil collection; prescribed fire allowed; natural fire managed for resource benefits; vegetation treatments allowed if they maintain or enhance the identified R&I values.

• Mount Logan Foothills, 3,900 acres, Alternative C: NSO; VRM Class II; ROW avoidance area; travel limited to designated routes including snowmobiles; prescribed fire allowed; natural fire managed for resource benefits; vegetation treatments allowed if they maintain or enhance the identified R&I values.

• Sheep Creek Uplands, 4,500 acres, Alternative C: NSO; VRM Class II; ROW avoidance area; prohibited net increase in motorized/mechanized routes; travel limited to designated routes including snowmobiles; prescribed fire allowed; natural fire managed for resource benefits; vegetation treatments allowed if they maintain or enhance the identified R&I values.

• The Crown Ridge, 1,000 acres, Alternative C: NSO; VRM Class II; ROW avoidance area; prohibited net increase in motorized/mechanized routes; travel limited to designated routes including snowmobiles; prescribed fire allowed; natural fire managed for resource benefits; vegetation treatments allowed if they maintain or enhance the identified R&I values.

• Thompson Creek, 4,300 acres, Alternative A; 3,400 acres, Alternatives B, C: Closed to leasing; NSO; VRM Class I and III for Alternative A, VRM Class I only for Alternative C; ROW exclusion area; closed to motorized travel including snowmobiles; closed to mechanized travel in Alternative C; vegetation treatments allowed if they maintain or enhance the R&I values; recommended for mineral withdrawal; climbing bolt installation outside the existing climbing fin prohibited.

Consistent with the requirements found at 43 CFR 1610.2, the BLM will schedule and announce a combined hearing on potential coal leasing and a public meeting during the Draft RMP/Draft EIS comment period.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2.

Helen M. Hankins,
Colorado State Director.

[FR Doc. 2011-23621 Filed 9-15-11; 8:45 am]

BILLING CODE 4310-JB-P